DEPARTMENT OF THE INTERIOR

Fish and Wildlife Service

50 CFR Part 17

RIN 1018-AV07; 1018-AV04

Endangered and Threatened Wildlife and Plants; Designations of Critical Habitat for the San Bernardino Kangaroo Rat (Dipodomys merriami parvus), Poa atropurpurea (San Bernardino bluegrass), and Taraxacum californicum (California taraxacum)

AGENCY: Fish and Wildlife Service, Interior.

ACTION: Proposed rule; notice of reopening of public comment periods, and notice of public hearings.

SUMMARY: We, the U.S. Fish and Wildlife Service (Service), announce the reopening of the public comment period and the scheduling of public hearings on the proposed rule to revise critical habitat for the San Bernardino kangaroo rat (Dipodomys merriami parvus), and on the proposed rule to designate critical habitat for Poa atropurpurea (San Bernardino bluegrass) and Taraxacum californicum (California taraxacum) under the Endangered Species Act of 1973, as amended (Act). The reopened comment periods will provide the public; Federal, State, and local agencies; and Tribes with an additional opportunity to submit written comments on these proposed rules. Comments previously submitted for the proposed critical habitat designations for the San Bernardino kangaroo rat, P. atropurpurea, or T. californicum need not be resubmitted as they have already been incorporated into the public record and will be fully considered in any final decisions.

DATES: Written Comments: We will accept comments and information until January 25, 2008, or at the public hearing. Any comments received after the closing date may not be considered in the final decisions on the designations of critical habitat.

Public Hearings: The public hearings will take place on January 10, 2008, from 1 p.m. to 3 p.m. and from 6 p.m. to 8 p.m. in San Bernardino, California.

ADDRESSES: Written Comments: You may submit comments by one of the following methods:

• Federal eRulemaking Portal: http://www.regulations.gov. Follow the instructions for submitting comments.

• U.S. mail or hand-delivery: Public Comments Processing, Attn: RIN 1018-AV07 or 1018-AV04; Division of Policy and Directives Management; U.S. Fish and Wildlife Service; 4401 N. Fairfax Drive, Suite 222, Arlington, VA 22203.

We will not accept e-mail or faxes. We will accept written comments at the public hearing. We will post all comments on http://www.regulations.gov. This generally means that we will post any personal information you provide us (see the Public Comments section below for more information).

Public Hearings: The public hearings will be held at the Clarion Hotel and Convention Center, 295 North E Street, San Bernardino, CA 92401.

FOR FURTHER INFORMATION CONTACT: Jim Bartel, Field Supervisor, Carlsbad Fish and Wildlife Office, 6010 Hidden Valley Road, Carlsbad, CA 92011; telephone 760-431-9440; facsimile 760-431-9624. If you use a telecommunications device for the deaf (TDD), call the Federal Information relay Service (FIRS) at 800-877-8339.

SUPPLEMENTARY INFORMATION:

Public Comments

We intend that any final actions resulting from these proposals will be as accurate and as effective as possible. Therefore, we solicit comments or suggestions on these proposed rules from the public, other concerned governmental agencies, Tribes, the scientific community, industry, or any other interested parties concerning the proposed rules. We particularly seek comments on the proposed revised critical habitat designation for the San Bernardino kangaroo rat, and the proposed critical habitat designations for Poa atropurpurea and Taraxacum californicum concerning:

(1) The reasons why we should or should not designate habitat as “critical habitat” under section 4 of the Act (16 U.S.C. 1531 et seq.), including whether the benefit of designation is outweighed by the threats to each species caused by their respective designations such that the designation of critical habitat is prudent;

(2) Specific information on:

• The amount and distribution of habitat for each species;

• What areas that were occupied at the time of listing and that contain the features essential for the conservation of the species should be included in their respective designations and why; and

• What areas not occupied at the time of listing are essential to the conservation of each species and why;

(3) Land use designations and current or planned activities in the subject areas and their possible impacts on proposed critical habitat for each species;

(4) Any foreseeable economic, national security, or other potential impacts resulting from the proposed revised designation for the San Bernardino kangaroo rat, and proposed critical habitat for Poa atropurpurea and Taraxacum californicum and, in particular, any impacts on small entities, and the benefits of including or excluding areas that exhibit these impacts; and

(5) Whether our approach to designating critical habitat could be improved or modified in any way as to provide for greater public participation and understanding, or to assist us in accommodating public concerns and comments.

In addition, we seek the following specific comments on the proposed revised designation of critical habitat for the San Bernardino kangaroo rat:

(1a) Specific information on dispersal areas important for habitat connectivity, their role in the conservation and recovery of the subspecies, and reasons why such areas should or should not be included in the critical habitat designation;

(2a) Our proposed exclusions totaling 2,544 acres (ac) (1,029 hectares (ha)) of San Bernardino kangaroo rat habitat and whether the benefits of excluding these areas would outweigh the benefits of their inclusion under section 4(b)(2) of the Act. If the Secretary determines that the benefits of including these lands are not outweighed by the benefits of excluding them, they will not be excluded from final critical habitat;

(3a) Any proposed critical habitat areas covered by existing or proposed conservation or management plans that we should consider for exclusion from the final designation under section 4(b)(2) of the Act. We specifically request information on any operative or draft habitat conservation plans for the San Bernardino kangaroo rat that have been prepared under section 10(a)(1)(B) of the Act, as well as any other management or conservation plan or agreement that benefits the kangaroo rat or its primary constituent elements; and

(4a) Specific information regarding the current status of plan implementation for the following management plans: the Woolly-Star Preserve Area Management Plans; the Former Norton Air Force Base Conservation Management Plan; the Cajon Creek Habitat Conservation Management Area, Habitat Enhancement and Management Plan; and Western Riverside Multiple Species Conservation Plan.

We also seek the following specific comments on the proposed critical habitat designations for Poa atropurpurea and Taraxacum californicum:

(1b) Any proposed critical habitat areas covered by conservation or management plans that we should consider for exclusion from the designation under section 4(b)(2) of the Act. We specifically request information on any operative or draft habitat conservation plans that include Poa atropurpurea or Taraxacum californicum as covered species that have been prepared under section 10(a)(1)(B) of the Act, or any other management or other conservation plan or agreement that benefits either plant or its primary constituent elements; and

(2b) Land use designations and current or planned activities in the subject areas and their possible impacts on proposed critical habitat.

You may submit your comments and materials concerning the proposed rules by one of the methods listed in the ADDRESSES section. We will not accept comments you send by e-mail or fax. We will accept written comments at the public hearing. Please note that we may not consider comments we receive after the date specified in the DATES section in our final determination.

Before including your address, phone number, e-mail address, or other personal identifying information in your comment, you should be aware that we will post your entire comment—including your personal identifying information—on http://www.regulations.gov. While you can ask us in your comment to withhold your personal identifying information from public review, we cannot guarantee that we will be able to do so.

Comments and materials we receive, as well as supporting documentation we used in preparing the proposed rules, will be available for public inspection on http://www.regulations.gov, or by appointment, during normal business hours, at the U.S. Fish and Wildlife Service, Carlsbad Fish and Wildlife Office, 6010 Hidden Valley Road, Carlsbad, CA 92011; telephone 760-431-9440; facsimile 760-431-9624.

Comments and information submitted during the initial comment periods on the proposed rules need not be resubmitted as they will be incorporated into the public records as part of those comment periods and will be fully considered in preparation of the final rules.

Background

On June 19, 2007, we published a proposed rule in the Federal Register (72 FR 33808) to revise critical habitat for the San Bernardino kangaroo rat. Currently, 33,295 ac (13,485 ha) are designated as critical habitat for the San Bernardino kangaroo rat in San Bernardino and Riverside counties, California. Under the proposal, approximately 9,079 ac (3,674 ha) of land located in San Bernardino and Riverside counties, California, would fall within the boundaries of the revised critical habitat designation. Further, of the 9,079 ac (3,674 ha) of revised critical habitat, we are proposing to exclude 2,544 ac (1,029 ha) of land from the revised final designation under section 4(b)(2) of the Act (see the Exclusions Under Section 4(b)(2) of the Act section of the June 19, 2007, revised proposed rule [72 FR 33808] for a detailed discussion of this proposed exclusion).

On August 7, 2007, we published a proposed rule in the Federal Register (72 FR 44232) to designate critical habitat for Poa atropurpurea and Taraxacum californicum. We propose approximately 3,014 ac (1,221 ha) of land in San Bernardino and San Diego Counties, California, as critical habitat for P. atropurpurea, and approximately 1,930 ac (782 ha) of land in San Bernardino County, California, as critical habitat for T. californicum.

Economic analyses identifying estimated impacts associated with the proposed critical habitat designations for the San Bernardino kangaroo rat, Poa atropurpurea, and Taraxacum californicum are still in development. When these analyses are completed, we will provide a separate notice informing the public of their availability and providing an opportunity for public comment.

Critical habitat is defined in section 3 of the Act as:

(i) The specific areas within the geographical area occupied by the species, at the time of listing in accordance with the Act, on which are found those physical or biological features (1) essential to the conservation of the species and (2) which may require special management considerations or protection; and

(ii) Specific areas outside the geographical area occupied by the species at the time of listing if the Secretary determines that those areas are essential for the conservation of the species.

For each species, if the proposed critical habitat designation is finalized, section 7(a)(2) of the Act would require that Federal agencies ensure that actions they fund, authorize, or carry out are not likely to jeopardize the continued existence of the species or result in the destruction or adverse modification of critical habitat.

Section 4(b)(2) of the Act requires that we designate or revise critical habitat on the basis of the best scientific and commercial data available, after taking into consideration economic, national security, and any other relevant impacts of specifying any particular area as critical habitat.

Public Hearings

Section 4(b)(5)(E) of the Act requires a public hearing be held if any person requests it within 45 days of the publication of a proposed rule. In response to requests from the public, the Service will conduct public hearings for these two critical habitat proposals on the date and at the address and times identified in the DATES and ADDRESSES sections above.

Persons wishing to make an oral statement for the record are encouraged to provide a written copy of their statement and present it to us at the hearing. In the event there is a large attendance, the time allotted for oral statements may be limited. Oral and written statements receive equal consideration. There are no limits on the length of written comments submitted to us. If you have any questions concerning the public hearing, please contact the Carlsbad Fish and Wildlife Office (see FOR FURTHER INFORMATION CONTACT).

Persons needing reasonable accommodations in order to attend and participate in the public hearings should contact Dixie Ward, Carlsbad Fish and Wildlife Office, at 760-431-9440 as soon as possible. In order to allow sufficient time to process requests, please call no later than one week before the hearing date. Information regarding this notice is available in alternative formats upon request.

Author

The author of this document is the staff of the Carlsbad Fish and Wildlife Office (see FOR FURTHER INFORMATION CONTACT).

Authority

The authority for this action is the Endangered Species Act of 1973, as amended (16 U.S.C. 1531 et seq.).

Dated: November 27, 2007.
David M. Verhey,
Acting Assistant Secretary for Fish and Wildlife and Parks.

[FR Doc. E7-23842 Filed 12-10-07; 8:45 am]

BILLING CODE 4310-55-P